DEPARTMENT OF COMMERCE

International Trade Administration

Notice of Scope Rulings

AGENCY: Enforcement and Compliance, International Trade Administration, Department of Commerce.

DATES: Applicable March 14, 2019.

SUMMARY: The Department of Commerce (Commerce) hereby publishes a list of scope rulings and anticircumvention determinations made between July 1, 2017, and September 30, 2017, inclusive. We intend to publish future lists after the close of the next calendar quarter.

FOR FURTHER INFORMATION CONTACT: Brenda E. Brown, AD/CVD Operations, Customs Liaison Unit, Enforcement and Compliance, International Trade Administration, U.S. Department of Commerce, 1401 Constitution Avenue NW, Washington, DC 20230; telephone: 202-482-4735.

SUPPLEMENTARY INFORMATION:

Background

Commerce regulations provide that the Secretary will publish in the Federal Register a list of scope rulings on a quarterly basis.¹ Our most recent notification of scope rulings was published on (July 9, 2018).² This current notice covers all scope rulings and anticircumvention determinations made by Enforcement and Compliance between July 1, 2017, and September 30, 2017, inclusive.

¹ See 19 CFR 351.225(o).

² See Notice of Scope Rulings, 83 FR 31733 (July 9, 2018).

Scope Rulings Made Between July 1, 2017 and September 30, 2017

A-583-831, A-580-834, A-588-845, and C-580-835: Stainless Steel Sheet and Strip in Coils From Japan, the Republic of Korea, and Taiwan

Requestor: Precision Hose, Inc; The imported strip at issue meets the physical characteristics of the strip in coils covered by the scope and does not qualify for the cut-to-length exclusion; August 28, 2017.

A-570-044: 1,1,1,2-Tetraflouroethane (R-134a) From the People's Republic of China

Requestor: BMP International Inc. (BMP). Commerce determined that R-134a produced in Japan and sent to a foreign trade zone (FTZ) in China for repackaging prior to shipment to the United States, as imported by BMP, is of Japanese origin, and is, thus, not covered by the scope of the Order because the product is merely repackaged in the China and not altered such that the physical characteristics of the product change because of repackaging at the FTZ; September 25, 2017.

A-570-967 and C-570-968: Aluminum Extrusions From the People's Republic of China

Requestor: Whirlpool Corporation. Whirlpool Corporation's refrigerator shelves meet the criteria for “finished merchandise” and are, therefore, not subject to the scope of the Orders; July 19, 2017.

A-570-899: Certain Artist Canvas From the People's Republic of China

Requestor: Ningbo Conda Imp & Exp Company, Ltd. and Ningbo Conda Art Material Group Co., Ltd. (collectively Ningbo Conda); Commerce determined that Ningbo Conda's exports of artist canvases which are woven in India and primed in Cambodia before being further processed (i.e., cut, stretched, framed, or packaged) in China are outside the scope of the Order; September 25, 2017.

A-570-958 and C-570-959: Certain Coated Paper Suitable for High-Quality Print Graphics Using Sheet-Fed Presses From the People's Republic of China

Requestor: Chenming International Inc. (Chenming). In a prior scope ruling, Commerce found that packaging paperboard products with a thickness greater than 310 μm and a density of less 0.70 g/cm³ are not suitable for high-quality print graphics and, thus, are not covered by the scope of the Orders. Therefore, based on record evidence and this prior scope ruling, Commerce determined that Chenming's C1S Poplar Super FBB packaging paperboard product is not covered by the scope of the Orders, as C1S Poplar Super FBB has a thickness greater than 310 μm and a density of less 0.70 g/cm³; September 5, 2017.

A-570-893: Certain Frozen Warmwater Shrimp From the People's Republic of China

Requestor: ACC Foods LLC; ACC's Chinese-style prepackaged shrimp dumplings and shrimp Chinese chive dumplings are not covered by the scope under the exclusion for prepared meals; August 2, 2017.

A-570-977 and C-570-978: High Pressure Steel Cylinders From the People's Republic of China

Requestor: Kivlan & Company, Inc. (dba Dynatemp International Inc.); Kivlan's empty DOT-39 cylinders are not covered by the scope because the plain language of the scope does not include DOT-39 cylinders; July 17, 2017.

A-570-875: Non-Malleable Cast Iron Pipe Fittings From the People's Republic of China

Requestor: Star Pipe Products' (Star Pipe); Star Pipe's ductile iron flanges identified by the product codes FLD02SP, FLD03SP, FLD04SP, FLD0403, FLD0604, FLD0804, FLDTFS02, FLDTFS03, FLDTFS04, FL250D03, and FL250D04 are within the scope of the order; August 17, 2017.

A-570-875: Non-Malleable Cast Iron Pipe Fittings From the People's Republic of China

Requestor: Continental Automotive Systems, Inc. (CAS); CAS's EEGR base identified by the product code GM-EEGR Base 440-389136 is not within the scope of the Order on non-malleable cast iron pipe fittings from China; September 18, 2017.

A-570-886: Polyethylene Retail Carrier Bags From the People's Republic of China

Requestor: Pan Pacific Plastics Manufacturing Inc.; Seal2Go Model A bag is outside the scope of the order; September 21, 2017.

A-570-922 and C-570-923: Raw Flexible Magnets From the People's Republic of China

Requestor: Tatco Product Inc. (Tatco Product); plastic pockets imported by Tatco are outside of the scope of the orders on flexible magnets from China because it is neither bonded nor laminated to requisite material; August 14, 2017.

A-570-922 and C-570-923: Raw Flexible Magnets From the People's Republic of China

Requestor: Tatco Products, Inc; non-printed magnetic label holders are within the scope and the magnetic label holder (with the zebra print design), is outside the scope of the orders; August 23, 2017.

A-570-922, C-570-923 and A-583-842: Raw Flexible Magnets From People's Republic of China and Taiwan

Requestor: Omix-Ada, Inc. (Omix-Ada); Commerce found the two magnetic panel protector kits (2007-2017 2-Door Jeep® Wrangler vehicles and 2007-2017 2-Door Jeep® Wrangler vehicles), which are imported by Omix-Ada and designed and fabricated to be affixed to the sides of Jeep® Wranglers to provide temporary protection when the vehicle is off-roading, to be within the scope of the orders. Commerce found the shape, partial lamination, and end-use of the panel protectors did not result in them being outside the scope of the orders; August 4, 2017.

A-570-909: Steel Nails From the People's Republic of China

Requestor: Midwest Fastener Corp; Strike pin anchors are within the order because the scope of the order includes nails of two or more pieces, which is consistent with the International Trade Commission's definition of the domestic like product; August 2, 2017.

A-570-932: Steel Threaded Rod From the People's Republic of China

Requestor: Star Pipe Products; Steel threaded rod components of 216 joint restraint kits are covered by the scope because they fall within the written description of the scope of the order, regardless of whether the steel threaded rod is included in a joint restraint kit; July 31, 2017

A-570-890: Wooden Bedroom Furniture From the People's Republic of China

Requestor: C&T International, Inc.; The Sorelle Petite Paradise Collection Infant Organizer/Storage Unit (Organizer) is covered by the scope of the antidumping duty order on wooden bedroom furniture (WBF) from China because the Organizer has physical characteristics that allow for clothing storage and the Organizer's characteristics are consistent with those of subject WBF; August 21, 2017.

Anticircumvention Determinations Made Between July 1, 2017, and September 30, 2017

A-570-967 and C-570-968: Aluminum Extrusions From the People's Republic of China

Requestor: Trending Imports LLC (Trending); In a concurrent anti-circumvention final determination, Commerce found that heat-treated extruded aluminum products from China that meet the chemical specifications for 5050 grade aluminum alloy, regardless of producer, exporter, or importer, constitute later-developed merchandise that is circumventing the Orders, and is thus included within the scope of the Orders. As a result, Commerce determined that 5050 series products imported by Trending are covered by the scope of the Orders, to the extent they are heat-treated extruded aluminum products that meet the chemical specifications for 5050 grade aluminum alloy; July 20, 2017.

A-570-967 and C-570-968: Aluminum Extrusions From the People's Republic of China

Requestor: Kota International, LTD (Kota); In a concurrent anti-circumvention final determination, Commerce found that heat-treated extruded aluminum products from China that meet the chemical specifications for 5050 grade aluminum alloy, regardless of producer, exporter, or importer, constitute later-developed merchandise that is circumventing the Orders, and is thus included within the scope of the Orders. As a result, Commerce determined that aluminum extrusions made from ACS-50 aluminum alloy material tempered through heat treating imported by Kota are covered by the scope of the Orders; July 20, 2017.

A-570-967 and C-570-968: Aluminum Extrusions From the People's Republic of China

Requestor: Aluminum Extrusions Fair Trade Committee; Heat-treated extruded aluminum products that meet the chemical specifications for 5050-grade aluminum alloy, regardless of producer, exporter, or importer, constitute later-developed merchandise, and are circumventing the antidumping and countervailing duty orders on aluminum extrusions from China; July 26, 2017.

A-602-807, A-351-842, A-570-022, C-570-023, A-560-828, C-560-829, A-471-807: Certain Uncoated Paper From Australia, Brazil, the People's Republic of China, Indonesia, and Portugal

Requestor: United Steel, Paper and Forestry, Rubber, Manufacturing, Energy, Allied Industrial and Service Workers International Union; Domtar Corporation; Finch Paper LLC; P.H. Glatfelter Company; and Packaging Corporation of America Imports of uncoated paper with a GE brightness of 83 +/− 1%, otherwise meeting the description in-scope merchandise, constitute merchandise “altered in form or appearance in minor respects” from in-scope merchandise and are subject to the AD and CVD orders on certain uncoated paper; September 1, 2017 (82 FR 41610).

Interested parties are invited to comment on the completeness of this list of completed scope inquiries. Any comments should be submitted to the Deputy Assistant Secretary for AD/CVD Operations, Enforcement and Compliance, International Trade Administration, 1401 Constitution Avenue NW, APO/Dockets Unit, Room 18022, Washington, DC 20230.

This notice is published in accordance with 19 CFR 351.225(o).

Dated: March 11, 2019.
James Maeder,
Associate Deputy Assistant Secretary for Antidumping and Countervailing Duty Operations, performing the duties of Deputy Assistant Secretary for Antidumping and Countervailing Duty Operations.

[FR Doc. 2019-04752 Filed 3-13-19; 8:45 am]

BILLING CODE 3510-DS-P